NATIONAL SCIENCE FOUNDATION

Sunshine Act Meeting; National Science Board

The National Science Board's Committee on Oversight (CO), pursuant to NSF regulations (45 CFR part 614), the National Science Foundation Act, as amended (42 U.S.C. 1862n-5), and the Government in the Sunshine Act (5 U.S.C. 552b), hereby gives notice of the scheduling of a teleconference for the transaction of National Science Board business, as follows:

TIME AND DATE: Friday, February 16, 2018 at 2:30 EST.

PLACE: This meeting will be held by teleconference at the National Science Foundation, 2415 Eisenhower Avenue, Alexandria, VA 22314.

STATUS: Open.

MATTERS TO BE CONSIDERED: Committee Chair's remarks, and discussion of merit review research topics.

CONTACT PERSON FOR MORE INFORMATION: Point of contact for this meeting is: Ann Bushmiller (abushmil@nsf.gov), 2415 Eisenhower Avenue, Alexandria, VA 22314. An audio link will be available for the public. Members of the public must contact the Board Office to request the public audio link by sending an email to nationalsciencebrd@nsf.gov at least 24 hours prior to the teleconference.

Please refer to the National Science Board website https://www.nsf.gov/nsb/meetings/notices.jsp#sunshine for meeting information and updates. You may find general information at https://www.nsf.gov/nsb/.

Chris Blair,
Executive Assistant to the National Science Board Office.

[FR Doc. 2018-02820 Filed 2-7-18; 4:15 pm]

BILLING CODE 7555-01-P